FEDERAL DEPOSIT INSURANCE CORPORATION

12 CFR Part 303

RIN 3064-AG04

Regulations Implementing the Change in Bank Control Act; Extension of Comment Period

AGENCY: Federal Deposit Insurance Corporation (FDIC).

ACTION: Notice of proposed rulemaking; extension of comment period.

SUMMARY: On August 19, 2024, the FDIC published in the Federal Register a proposed rule that would amend its filing requirements and processing procedures for notices filed under the Change in Bank Control Act (CBCA). The proposed rule provided for a 60-day comment period, which closes on October 18, 2024. The FDIC has determined that an extension of the comment period until November 18, 2024, is appropriate. This action will allow interested parties additional time to analyze the proposal and prepare comments.

DATES: The comment period for the proposed rule published at 89 FR 67002 (August 19, 2024) is extended. Comments must be received on or before November 18, 2024.

ADDRESSES: You may submit comments on this document using any of the following methods:

• Agency Website: https://www.fdic.gov/resources/regulations/federal-register-publications/. Follow the instructions for submitting comments on the agency website.

• Email: comments@fdic.gov. Include RIN 3064-AG04 in the subject line of the message.

• Mail: James P. Sheesley, Assistant Executive Secretary, Attention: Comments—RIN 3064-AG04, Federal Deposit Insurance Corporation, 550 17th Street NW, Washington, DC 20429.

• Hand Delivery: Comments may be hand delivered to the guard station at the rear of the 550 17th Street NW building (located on F Street) on business days between 7 a.m. and 5 p.m.

• Public Inspection: Comments received, including any personal information provided, may be posted without change to https://www.fdic.gov/resources/regulations/federal-register-publications/. Commenters should submit only information that the commenter wishes to make available publicly. The FDIC may review, redact, or refrain from posting all or any portion of any comment that it may deem to be inappropriate for publication, such as irrelevant or obscene material. The FDIC may post only a single representative example of identical or substantially identical comments, and in such cases will generally identify the number of identical or substantially identical comments represented by the posted example. All comments that have been redacted, as well as those that have not been posted, that contain comments on the merits of the notice will be retained in the public comment file and will be considered as required under all applicable laws. All comments may be accessible under the Freedom of Information Act.

FOR FURTHER INFORMATION CONTACT: Annmarie Boyd, Senior Counsel, 202-898-3714, aboyd@fdic.gov; Gregory S. Feder, Counsel, 202-898-8724, gfeder@fdic.gov; Nicholas A. Simons, Senior Attorney, 202-898-6785, nsimons@fdic.gov, Legal Division; Derek Sturtevant, Senior Review Examiner, 202-898-3693, dsturtevant@fdic.gov, Division of Risk Management Supervision, 550 17th Street NW, Washington, DC 20429.

SUPPLEMENTARY INFORMATION: On August 19, 2024, the FDIC published in the Federal Register at 89 FR 67002 a proposed rule amending its filing requirements and processing procedures for notices filed under the CBCA. The proposed rule would remove the exemption from the notice requirement for acquisitions of voting securities of a depository institution holding company with an FDIC-supervised subsidiary institution for which the Board of Governors of the Federal Reserve System reviews a notice under the CBCA and make conforming definitional changes. The proposed rule stated that the comment period would close on October 18, 2024. However, to provide additional opportunity for the public to prepare comments to address the matters raised by the proposed rule, the FDIC is extending the comment period for the CBCA-related proposed rule from October 18, 2024, to November 18, 2024.

Federal Deposit Insurance Corporation.
Dated at Washington, DC, on October 16, 2024.
James P. Sheesley,
Assistant Executive Secretary.

[FR Doc. 2024-24316 Filed 10-17-24; 11:15 am]

BILLING CODE 6714-01-P